DEPARTMENT OF HEALTH AND HUMAN SERVICES

Centers for Disease Control and Prevention

[Program Announcement 02003]

Community-Based Participatory Prevention Research; Notice of Availability of Funds; Amendment

A notice announcing the availability of Fiscal Year 2002 funds for the Office of Extramural Prevention Research which address the “Healthy People 2010” focus area, Educational and Community-Based Programs was published in the Federal Register on February 21, 2002, [Volume 67, No. 35, pages 8020-8024]. The notice is amended as follows:

Some inconsistencies remain between the latest PHS Form 398 (Rev. 05/01) and Program Announcement 02003 on page limits and information to be included in various sections. The following constitutes the resolution of these discrepancies:

“Section E. Content, 2. Application” of Program Announcement 02003 refers to “the narrative.” The narrative should consist of items A to D in the Research Plan outlined on PHS Form 398. This agrees with items a to c in “Section E. Content, 2. Applications” of Program Announcement 02003. In accordance with the instructions provided for the Research Plan on PHS Form 398, this narrative is not to exceed 25 single-spaced pages, printed on one side, with ½-inch margins, and standard size fonts (10 or 12 points).

The remaining items d to h from “Section E. Content, 2. Applications” of Program Announcement 02003 correspond to the following sections identified in the Table of Contents for PHS Form 398:

1. Item d should be included as part of the section entitled “Description, Performance Sites, and Personnel” (See Note 1).

2. Item e should be included as part of the section entitled “Description, Performance Sites, and Personnel” (See Note 1).

3. Item f should be included as a separate section after the section on “Resources” and should be labeled as “Item f.” There is no corresponding section in PHS Form 398 for this item.

4. Item g should be included as part of the section entitled “Description, Performance Sites, and Personnel” (See Note 1).

5. Item h should be included in appropriate sections identified in the Table of Contents for PHS Form 398.

The “detailed first year's budget” should be included in the section entitled “Detailed Budget for Initial Budget Period.” Budget projections for up to two additional years of support should be included in the section entitled “Entire Proposed Period of Support.” If applicable, budgets pertaining to consortium/contractual arrangements should be included in the section entitled “Budgets Pertaining to Consortium/Contractual Arrangements.”

Note one: Pay close attention to the detailed instructions provided for “Description, Performance Sites, and Personnel” in the Instructions for PHS 398 (Rev. 05/2001) entitled “Application for a Public Health Service Grant PHS 398: U.S. Department of Health and Human Services, Public Health Service Grant Application (PHS 398).”

Dated: April 8, 2002.
Sandra R. Manning,
CGFM, Director, Procurement and Grants Office, Centers for Disease Control and Prevention (CDC).

[FR Doc. 02-8863 Filed 4-11-02; 8:45 am]

BILLING CODE 4163-18-P